NUCLEAR REGULATORY COMMISSION

[NRC-2010-0002]

Sunshine Act; Notice of Meeting

DATES: Weeks of February 22, March 1, 8, 15, 22, 29, 2010.

PLACE: Commissioners' Conference Room, 11555 Rockville Pike, Rockville, Maryland.

STATUS: Public and Closed.

Week of February 22, 2010

Tuesday, February 23, 2010

9:25 a.m.

Affirmation Session (Public Meeting) (Tentative).

Entergy Nuclear Operations, Inc. (Indian Point Nuclear Generating Unit Nos. 1, 2, and 3); Docket Nos. 50-003-LT-2, 50-247-LT-2, 50-286-LT-2, and 72-51-LT-2. (Request for Hearing on Extension of Time to Complete License Transfer) (Tentative).

This meeting will be webcast live at the Web address— http://www.nrc.gov

9:30 a.m. Briefing on Decommissioning Funding (Public Meeting) (Contact: Thomas Fredrichs, 301-415-5971).

This meeting will be webcast live at the Web address— http://www.nrc.gov.

Week of March 1, 2010—Tentative

Tuesday, March 2, 2010

9:30 a.m. Briefing on Uranium Recovery (Public Meeting) (Contact: Dominick Orlando, 301-415-6749).

This meeting will be webcast live at the Web address— http://www.nrc.gov.

Week of March 8, 2010—Tentative

There are no meetings scheduled for the week of March 8, 2010.

Week of March 15, 2010—Tentative

Tuesday, March 16, 2010

1:30 p.m. Joint Meeting of the Federal Energy Regulatory Commission and the Nuclear Regulatory Commission on Grid Reliability (Public Meeting). (Contact: Kenn Miller, 301-415-3152).

This meeting will be webcast live at the Web address— http://www.nrc.gov.

Week of March 22, 2010—Tentative

There are no meetings scheduled for the week of March 22, 2010.

Week of March 29, 2010—Tentative

There are no meetings scheduled for the week of March 29, 2010.

* The schedule for Commission meetings is subject to change on short notice. To verify the status of meetings, call (recording)—(301) 415-1292. Contact person for more information: Rochelle Bavol, (301) 415-1651.

Additional Information

The Briefing on Regional Programs—Programs, Performance, and Future Plans previously scheduled on Tuesday, February 9, 2010, at 9:30 a.m. has been postponed.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

February 18, 2010.
Rochelle C. Bavol,
Office of the Secretary.

[FR Doc. 2010-3665 Filed 2-19-10; 4:15 pm]

BILLING CODE 7590-01-P